ENVIRONMENTAL PROTECTION AGENCY

40 CFR Part 52

[EPA-R09-OAR-2020-0476; FRL-8777-02-R9]

Air Plan Approval; California; Antelope Valley Air Quality Management District, Eastern Kern Air Pollution Control District, and Yolo-Solano Air Quality Management District; Combustion Sources

AGENCY: Environmental Protection Agency (EPA).

ACTION: Final rule.

SUMMARY: The Environmental Protection Agency (EPA) is taking final action to approve revisions to the Antelope Valley Air Quality Management District (AVAQMD), Eastern Kern Air Pollution Control District (EKAPCD), and Yolo-Solano Air Quality Management District (YSAQMD) portions of the California State Implementation Plan (SIP). These revisions concern emissions of oxides of nitrogen (NOX) from boilers, steam generating units, process heaters, and stationary internal combustion engines. We are approving local rules that regulate these emission sources under the Clean Air Act (CAA or the “Act”).

DATES: This rule will be effective on October 12, 2021.

ADDRESSES: The EPA has established a docket for this action under Docket ID No. EPA-R09-OAR-2020-0476. All documents in the docket are listed on the https://www.regulations.gov website. Although listed in the index, some information is not publicly available, e.g., Confidential Business Information or other information whose disclosure is restricted by statute. Certain other material, such as copyrighted material, is not placed on the internet and will be publicly available only in hard copy form. Publicly available docket materials are available through https://www.regulations.gov, or please contact the person identified in the FOR FURTHER INFORMATION CONTACT section for additional availability information. If you need assistance in a language other than English or if you are a person with disabilities who needs a reasonable accommodation at no cost to you, please contact the person identified in the FOR FURTHER INFORMATION CONTACT section.

FOR FURTHER INFORMATION CONTACT: Kevin Gong, EPA Region IX, 75 Hawthorne St., San Francisco, CA 94105. By phone at (415) 972-3073 and by email at gong.kevin@epa.gov.

SUPPLEMENTARY INFORMATION: Throughout this document, “we,” “us” and “our” refer to the EPA.

Table of Contents

I. Proposed Action

II. Public Comments and EPA Responses

III. EPA Action

IV. Incorporation by Reference

V. Statutory and Executive Order Reviews

I. Proposed Action

On April 5, 2021 (86 FR 17567), the EPA proposed to approve the following rules into the California SIP.

TABLE 1—Submitted Rules
Local agency | Rule # | Rule title | Local action | Submitted
AVAQMD | 1110.2 | Emissions from Stationary, Non-Road and Portable Internal Combustion Engines | Amended 09/18/2018 | 10/30/2018
EKAPCD | 425.2 | Boilers, Steam Generators, and Process Heaters (Oxides of Nitrogen) | Amended 01/11/2018 | 08/22/2018
YSAQMD | 2.27 | Large Boilers | Revised 05/15/2019 | 08/19/2019

In our proposed rule, we erroneously stated that an earlier version of EKAPCD Rule 425.2 had been approved into the SIP on October 28, 1999 (64 FR 57991). That version of the rule was approved into the SIP on September 24, 1999 (64 FR 51688). We proposed to approve these rules because we determined that they comply with the relevant CAA requirements. Our proposed action contains more information on the rules and our evaluation.

II. Public Comments and EPA Responses

The EPA's proposed action provided a 30-day public comment period. During this period, we received no comments.

III. EPA Action

No comments were submitted. Therefore, as authorized in section 110(k)(3) of the Act, the EPA is fully approving these rules into the California SIP.

IV. Incorporation by Reference

In this rule, the EPA is finalizing regulatory text that includes incorporation by reference. In accordance with requirements of 1 CFR 51.5, the EPA is finalizing the incorporation by reference of the local air district rules described in the amendments to 40 CFR part 52 set forth below. The EPA has made, and will continue to make, these documents available through www.regulations.gov and at the EPA Region IX Office (please contact the person identified in the FOR FURTHER INFORMATION CONTACT section of this preamble for more information).

V. Statutory and Executive Order Reviews

Under the Clean Air Act, the Administrator is required to approve a SIP submission that complies with the provisions of the Act and applicable federal regulations. 42 U.S.C. 7410(k); 40 CFR 52.02(a). Thus, in reviewing SIP submissions, the EPA's role is to approve state choices, provided that they meet the criteria of the Clean Air Act. Accordingly, this action merely approves state law as meeting federal requirements and does not impose additional requirements beyond those imposed by state law. For that reason, this action:

• Is not a significant regulatory action subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide the EPA with the discretionary authority to address, as appropriate, disproportionate human health or environmental effects, using practicable and legally permissible methods, under Executive Order 12898 (59 FR 7629, February 16, 1994).

In addition, the SIP is not approved to apply on any Indian reservation land or in any other area where the EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. The EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by November 9, 2021. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Intergovernmental relations, Ozone, Particulate matter, Reporting and recordkeeping requirements, Volatile organic compounds.

Dated: August 31, 2021.
Deborah Jordan,
Acting Regional Administrator, Region IX.

Part 52, Chapter I, Title 40 of the Code of Federal Regulations is amended as follows:

PART 52—APPROVAL AND PROMULGATION OF IMPLEMENTATION PLANS

1. The authority citation for Part 52 continues to read as follows:

Authority: 42 U.S.C. 7401 et seq.

Subpart F—California

2. Section 52.220 is amended by adding paragraphs (c)(241)(i)(B)(2), (c)(249)(i)(B)(2), (c)(520)(i)(B), (c)(521)(i)(A)(2) and (c)(542)(i)(C) to read as follows:

§ 52.220 Identification of plan-in part.

* * * * *

(c) * * *

(241) * * *

(i) * * *

(B) * * *

(2) Previously approved on June 17, 1997 in paragraph (c)(241)(i)(B)(1) of this section and now deleted with replacement in (c)(542)(i)(C)(1), Rule 2.27, revised on August 14, 1996.

* * * * *

(249) * * *

(i) * * *

(B) * * *

(2) Previously approved on September 24, 1999 in paragraph (c)(249)(i)(B)(1) of this section and now deleted with replacement in (c)(520)(i)(A)(1), Rule 425.2 adopted on October 13, 1994 and amended on July 10, 1997.

* * * * *

(520) * * *

(i) * * *

(B) Eastern Kern Air Pollution Control District.

(1) Rule 425.2, “Boilers, Steam Generators, and Process Heaters (Oxides of Nitrogen),” amended on January 11, 2018.

(2) [Reserved]

* * * * *

(521) * * *

(i) * * *

(A) * * *

(2) Rule 1110.2, “Emissions from Stationary, Non-Road and Portable Internal Combustion Engines,” amended on September 18, 2018.

* * * * *

(542) * * *

(i) * * *

(C) Yolo-Solano Air Quality Management District.

(1) Rule 2.27, “Large Boilers,” revised on May 15, 2019.

(2) [Reserved]

* * * * *

[FR Doc. 2021-19434 Filed 9-9-21; 8:45 am]

BILLING CODE 6560-50-P